DEPARTMENT OF HEALTH AND HUMAN SERVICES

Centers for Disease Control and Prevention

[30Day-10-0789]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Program Effectiveness Evaluation of Workplace Intervention for Intimate Partner Violence (IPV)—[OMB# 0920-0789] [exp. 12/31/09]—Extension—National Center for Injury Prevention and Control (NCIPC), Centers for Disease Control and Prevention (CDC).

Background and Brief Description

Intimate partner violence (IPV) affects a substantial number of Americans, and there has recently been increasing recognition of the impact it has on the workplace. In addition to direct impacts (batterers often stalk or even attack IPV victims at their place of work), IPV has indirect impacts on the workplace environment through lost productivity due to medical leave, absenteeism, and fear and distraction on the part of victims and coworkers. The Centers for Disease Control and Prevention (CDC) contracted with RTI International (RTI) to evaluate an ongoing workplace IPV prevention program being implemented at a national corporation. The purpose of the proposed evaluation is to document in detail the workplace IPV prevention activities delivered by the company, to determine the impact of these activities on short-term and long-term outcomes, and to determine the cost-effectiveness of the program. All managers at the corporate office of the corporation have been screened to assess training experiences. More in-depth surveys were conducted with managers who had not completed the corporation's IPV training. We have surveyed managers at baseline, and 6 months later. Manager surveys focus on knowledge/awareness of IPV and company resources for IPV and number of referrals for IPV assistance. This extension is requested to cover the 12-month follow-up administration of this survey. Due to unexpected delays at the evaluation site and an inability to field the 6-month follow up survey with managers when originally scheduled, we will need to push the timeline for 12-month follow up back approximately 3 months.

We have also surveyed employees of those managers who completed the baseline survey using an anonymous Web-based survey at baseline. These employees will also be surveyed 12 months later (during the extension period) to assess their self-evaluated productivity, absenteeism, and perceptions of manager behavior. We will compare the responses of managers (and their employees) who received the IPV training in the study period (i.e., sometime between the baseline and 12 month surveys) with untrained managers. The study will provide CDC and employers information about the potential effectiveness and cost-effectiveness of workplace IPV intervention strategies.

There are no costs to respondents except their time to participate in the interview. The estimated total annualized burden hours are 1125.

Estimated Annualized Burden Hours
Respondents | Number of respondents | Number of responses per respondent | Average burden per response (in hours)
Manager | 500 | 3 | 30/60
Employee | 1500 | 1 | 15/60

Dated: October 16, 2009.
Maryam I. Daneshvar,
Acting Reports Clearance Officer, Centers for Disease Control and Prevention.

[FR Doc. E9-25531 Filed 10-22-09; 8:45 am]

BILLING CODE 4163-18-P